FEDERAL COMMUNICATIONS COMMISSION

Notice of Public Information Collection(s) Being Reviewed by the Federal Communications Commission

June 12, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before July 21, 2003. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-1014.

Title: Ku-Band NGSO FSS.

Form No: N/A.

Type of Review: Revision of a currently approved collection.

Respondents: Business or other for-profit.

Number of Respondents: 5 respondents; 45 responses.

Estimated Time Per Response: 1-4 hours.

Frequency of Response: On occasion, annual, and other reporting requirements.

Total Annual Burden: 104 hours.

Total Annual Cost: $176,000.

Needs and Uses: On April 29, 2003, the Commission released ET Docket No. 98-206, FCC 03-97, Fourth Memorandum Opinion and Order in the matter of Amendment of Parts 2 and 25 of the Commission's Rules to Permit Operation of NGSO FSS Systems Co-Frequency with GSO and Terrestrial Systems in the Ku-Band Frequency Range. Among other decisions, the Commission amended its rules for demonstrating that licensees meet limits on equivalent power flux density (PFD), designed to protect broadcast satellite service operations. The licensees' demonstration of compliance with PFD limits is a new information collection requirement for which the Commission seeks OMB approval.

OMB Control No.: 3060-0410.

Title: Forecast of Investment Usage Report and Actual Usage of Investment Report.

Form No: FCC Reports 495-A and 495-B.

Type of Review: Revision of a currently approved collection.

Respondents: Business or other for-profit.

Number of Respondents: 83 respondents; 166 responses.

Estimated Time Per Response: 40 hours.

Frequency of Response: Annual reporting requirement.

Total Annual Burden: 6,640 hours.

Total Annual Cost: N/A.

Needs and Uses: The revision of the ARMIS Annual Summary Report, instructed carriers who have no network investment jointly used for regulated and non-regulated functions not to file FCC Reports 495-A and 495-B. Such respondents are directed to file a letter signed by the company's responsible officer, certifying that there is no date to report.

The information contained in these two reports provides the necessary detail to enable the Commission to fulfill its regulatory responsibilities. Automated reporting of these data greatly enhances the Commission's ability to process and analyze the extensive amount of data that are needed to administer its rules. These reports ensure that the regulated operation of the carriers do not subsidize the non-regulated operations of those same carriers.

Federal Communications Commission.
Marlene H. Dortch,
Secretary.

[FR Doc. 03-15493 Filed 6-18-03; 8:45 am]

BILLING CODE 6712-01-P